DEPARTMENT OF HOMELAND SECURITY

Coast Guard

33 CFR Part 117

[Docket No. USCG-2016-0255]

Drawbridge Operation Regulation; Hackensack River, Secaucus, NJ

AGENCY: Coast Guard, DHS.

ACTION: Notice of deviation from drawbridge regulation.

SUMMARY: The Coast Guard has issued a temporary deviation from the operating schedule that governs the New Jersey Transit Rail Operations (NJTRO) Upper Hack Drawbridge across the Hackensack River, mile 6.9, at Secaucus, New Jersey. This deviation is necessary to allow the bridge owner to replace rails, ties, walkways, and handrails at the bridge. This deviation allows the bridge to remain closed for two weekends.

DATES: This deviation is effective 12:01 a.m. on April 16, 2016 through 6:00 p.m. May 23, 2016.

ADDRESSES: The docket for this deviation, [USCG-2016-0255] is available at http://www.regulations.gov. Type the docket number in the “SEARCH” box and click “SEARCH”. Click on Open Docket Folder on the line associated with this deviation.

FOR FURTHER INFORMATION CONTACT: If you have questions on this temporary deviation, call or email Joe M. Arca, Project Officer, First Coast Guard District, telephone (212) 514-4336, email joe.m.arca@uscg.mil.

SUPPLEMENTARY INFORMATION: The NJTRO Upper Hack Drawbridge across Hackensack River, mile 6.9, at Secaucus, New Jersey, has a vertical clearance in the closed position of 8 feet at mean high water and 13 feet at mean low water. The existing bridge operating regulations are found at 33 CFR 117.723(f).

The waterway is transited by seasonal recreational vessels and commercial vessels of various sizes.

The bridge owner, NJTRO, requested a temporary deviation from the normal operating schedule to facilitate replacement of the rails, ties, walkways and handrails at the bridge.

Under this temporary deviation, the NJTRO Upper Hack Drawbridge may remain in the closed position for two weekends, from 12:01 a.m. on April 16, 2016 through 6:00 p.m. April 18, 2016 and from 12:01 a.m. April 23 through 6:00 p.m. April 25, 2016, and a rain date from May 14, 2016 through May 16 and May 21 through May 23, 2016 for the same time frame.

Vessels able to pass under the bridge in the closed position may do so at any time. The bridge will not be able to open for emergencies and there is no immediate alternate route for vessels to pass.

The Coast Guard will inform the users of the waterways through our Local Notice and Broadcast to Mariners of the change in operating schedule for the bridge so that vessel operations can arrange their transits to minimize any impact caused by the temporary deviation.

In accordance with 33 CFR 117.35(e), the drawbridge must return to its regular operating schedule immediately at the end of the effective period of this temporary deviation. This deviation from the operating regulations is authorized under 33 CFR 117.35.

Dated: April 5, 2016.
C.J. Bisignano,
Supervisory Bridge Management Specialist, First Coast Guard District.

[FR Doc. 2016-08199 Filed 4-8-16; 8:45 am]

BILLING CODE 9110-04-P